ENVIRONMENTAL PROTECTION AGENCY

[EPA-HQ-ORD-2010-0622; FRL-9209-5]

Board of Scientific Counselors (BOSC); Request for Nominations of Experts

AGENCY: Environmental Protection Agency (EPA).

ACTION: Notice.

SUMMARY: The EPA Board of Scientific Counselors (BOSC) Staff Office is requesting public nominations for technical experts to fill current vacancies on the BOSC Executive Committee. Nominations should be submitted via the BOSC Web site at http://www.epa.gov/osp/bosc/nomination.htm.

DATES: Nominations should be submitted by November 15, 2010, per instructions below.

FOR FURTHER INFORMATION CONTACT: Any member of the public needing further information regarding this Notice and Request for Nominations may contact Ms. Heather Drumm, Mail Code 8104-R, Office of Science Policy, Office of Research and Development, Environmental Protection Agency, 1200 Pennsylvania Avenue, NW., Washington, DC 20460; via phone/voice mail at: (202) 564-8239; via fax at: (202) 565-2911; or via e-mail at: drumm.heather@epa.gov. General information concerning the Board of Scientific Counselors can be found at the BOSC Web site at: http://www.epa.gov/osp/bosc.

SUPPLEMENTARY INFORMATION:

Background

The BOSC is a chartered Federal Advisory Committee that was established by the U.S. EPA to provide independent scientific and technical peer review, advice, consultation, and recommendations about the Office of Research and Development. As a Federal Advisory Committee, the BOSC conducts business in accordance with the Federal Advisory Committee Act (FACA) (5 U.S.C. App. 2) and related regulations.

The BOSC Executive Committee is comprised of approximately 20 members who are recognized experts in various scientific and engineering fields. EPA is soliciting candidates to fill several vacancies. EPA will consider candidates from the environmental scientific/technical fields, human health care professionals, academia, industry, public and private research institutes or organizations, non-government organizations, and other relevant interest areas. Members of the BOSC serve as special government employees. The Executive Committee meets approximately three to five times per year in face-to-face meetings and via teleconferences.

Request for Nominations

EPA's BOSC Staff Office is seeking nominations of nationally and internationally recognized scientists, engineers, and social scientists having experience and expertise in one or more of the following areas: Ecology (aquatic and terrestrial); toxicology (environmental and developmental); informatics (ecosystem and bioinformatics); socioeconomics; environmental justice, science policy (research, policy, and outcomes interface); endocrine disrupting chemicals; climate change (environmental and human health impacts and carbon sequestration); sustainability (systems engineering, life-cycle assessment, green chemistry/technology); risk assessment (human health and ecological); and risk management.

Process and Deadline for Submitting Nominations

Any interested person or organization may nominate themselves or qualified individuals in the areas of expertise described above. Nominations should be submitted via the BOSC Web site (which is preferred over hard copy) at http://www.epa.gov/osp/bosc/nomination.htm. Nominations should be submitted in time to arrive no later than November 15, 2010. To receive full consideration, nominations should include all of the information requested. EPA's BOSC Staff Office requests: contact information about the person making the nomination; contact information about the nominee; the disciplinary and specific areas of expertise of the nominee; the nominee's curriculum vita and/or resume; sources of recent grant and/or contract support; and a biographical sketch of the nominee indicating current position, educational background, and recent service on other national advisory committees or national professional organizations. Persons having questions about the nomination procedures, or who are unable to submit nominations through the BOSC web site, should contact Ms. Heather Drumm, as indicated above in this notice.

For the EPA BOSC Staff Office, a balanced committee includes candidates who possess the necessary domains of knowledge, the relevant scientific perspectives (which, among other factors, can be influenced by work history and affiliation), and the collective breadth of experience to adequately address the charge. Selection criteria to be used for membership include: (a) Scientific and/or technical expertise, knowledge, and experience (primary factors); (b) availability and willingness to serve; (c) absence of financial conflicts of interest; (d) absence of an appearance of a lack of impartiality; (e) skills working on committees, subcommittees and advisory panels; and (f) diversity of expertise and viewpoints. EPA values and welcomes diversity. In an effort to obtain nominations of diverse candidates, EPA encourages nominations of women and men of all racial and ethnic groups.

The BOSC Staff Office's evaluation of an absence of financial conflicts of interest will include a review of the “Confidential Financial Disclosure Form for Special Government Employees Serving on Federal Advisory Committees at the U.S. Environmental Protection Agency” (EPA Form 3110-48). This confidential form allows Government Officials to determine whether there is a statutory conflict between that person's public responsibilities (which includes membership on an EPA Federal advisory committee) and private interests and activities, or the appearance of a lack of impartiality, as defined by Federal regulation. The form may be viewed and downloaded from the following URL address http://www.epa.gov/sab/pdf/epaform3110-48.pdf.

Dated September 28, 2010.
Mimi Dannel.
Acting Director, Office of Science Policy .

[FR Doc. 2010-24805 Filed 10-1-10; 8:45 am]

BILLING CODE 6560-50-P